DEPARTMENT OF THE INTERIOR

Fish and Wildlife Service

50 CFR Part 17

[Docket No. FWS-HQ-ES-2016-0072; 4500030115]

Endangered and Threatened Wildlife and Plants; Review of Foreign Species That Are Candidates for Listing as Endangered or Threatened; Annual Notification of Findings on Resubmitted Petitions; Annual Description of Progress on Listing Actions

AGENCY: Fish and Wildlife Service, Interior.

ACTION: Notification of review.

SUMMARY: In this Candidate Notice of Review of Foreign Species (CNOR-FS), we present an updated list of plant and animal species foreign to the United States that we regard as candidates for addition to the Lists of Endangered and Threatened Wildlife and Plants under the Endangered Species Act of 1973, as amended. Identification of candidate species can assist conservation planning efforts by providing advance notice of potential listings and awareness of species' status. Even if we subsequently list a candidate species, the early notice provided here could result in more options for species management and recovery by prompting measures to alleviate threats to the species.

DATES: We will accept information on any of the species in this Candidate Notice of Review of Foreign Species at any time.

ADDRESSES: Document availability: This CNOR-FS and supporting documentation, including more detailed information on these candidate species and the references cited, is available on the Internet at http://www.regulations.gov at Docket No. FWS-HQ-ES-2016-0072. Please submit any new information, materials, comments, or questions on this CNOR-FS and the supporting documentation to the Falls Church, VA, address listed in FOR FURTHER INFORMATION CONTACT below.

FOR FURTHER INFORMATION CONTACT: Chief, Branch of Foreign Species, Ecological Services Program, U.S. Fish and Wildlife Service, 5275 Leesburg Pike, MS: ES, Falls Church, VA 22041-3808; telephone 703-358-2171. If you use a telecommunications device for the deaf (TDD), call the Federal Information Relay Service (FIRS) at 800-877-8339.

SUPPLEMENTARY INFORMATION:

Executive Summary

This CNOR-FS summarizes the status and threats that we evaluated in order to determine that species qualify as candidates, to assign a listing priority number (LPN) to each species, and to determine whether a species should be removed from candidate status. Additional material that we relied on for each candidate species is available in supporting documentation on the Internet at http://www.regulations.gov at Docket No. FWS-HQ-ES-2016-0072

Twenty foreign species are current candidates for listing. This document includes our findings on resubmitted petitions and describes our progress in revising the Lists of Endangered and Threatened Wildlife and Plants (Lists) during the period April 25, 2013, through April 7, 2016. Based on our review, we find that 19 species continue to warrant listing, but their listing remains precluded by higher-priority proposals to determine whether other species are an endangered species or a threatened species. We are removing one candidate from the list due to recovery, and we are adding a species that was originally considered to be one taxon but has recently been determined to be two full species. Additionally, in this CNOR-FS, we have assigned a listing priority number (LPN) to the new candidate species and have changed the LPNs for three candidate species.

Background

The Endangered Species Act of 1973, as amended (Act) (16 U.S.C. 1531 et seq.), requires that we identify species of wildlife and plants that are endangered or threatened based on the best available scientific and commercial information. As defined in section 3 of the Act, an endangered species is any species that is in danger of extinction throughout all or a significant portion of its range, and a threatened species is any species that is likely to become an endangered species within the foreseeable future throughout all or a significant portion of its range. Through the Federal rulemaking process, we add species that meet these definitions to the List of Endangered and Threatened Wildlife at 50 CFR 17.11 or the List of Endangered and Threatened Plants at 50 CFR 17.12 (List). Candidate taxa are those taxa for which we have sufficient information on file relating to biological vulnerability and threats to support a proposal to list the taxa as endangered or threatened, but for which preparation and publication of a proposed rule is precluded by higher-priority proposals to determine whether any species is an endangered species or a threatened species. We may identify a species as a candidate for listing after we have conducted an evaluation of its status—either on our own initiative, or in response to a petition we have received.

Under section 4(b)(3)(A) of the Act, when we receive a petition to add a species or to remove a species from the List we must determine within 90 days, to the maximum extent practicable, whether the petition presents substantial scientific or commercial information indicating that the petitioned action may be warranted (90-day finding). Section 4(b)(3)(B) requires that, within 12 months after receiving any petition that contains substantial scientific or commercial information indicating that listing an animal or plant species may be warranted, we make one of the following findings (12-month finding): (1) Not warranted; (2) warranted; or (3) warranted, but the immediate proposal of a regulation implementing the petitioned action is precluded by other pending proposals to determine whether species are endangered or threatened species (warranted but precluded), and expeditious progress is being made to add or remove qualified species from the List (See Preclusion and Expeditious Progress below).

In accordance with section 4(b)(3)(C)(i) of the Act, when, in response to a petition, we find that listing a species is warranted but precluded, we must make a new 12-month finding annually until we publish a proposed rule to list the species or make a determination that listing is not warranted. These subsequent 12-month findings are referred to as “resubmitted” petition findings. This CNOR-FS contains our resubmitted petition findings for foreign species previously described in the Annual Notice of Review published April 25, 2013 (78 FR 24604).

We maintain this list of candidates for a variety of reasons:

(1) To notify the public that these species are facing threats to their survival;

(2) to provide advance knowledge of potential listings;

(3) to provide information that may stimulate and guide conservation efforts that will remove or reduce threats to these species and possibly make listing unnecessary;

(4) to request input from interested parties to help us identify those candidate species that may not require protection under the Act or additional species that may require the Act's protections; and

(5) to request necessary information for setting priorities for preparing listing proposals. We strongly encourage collaborative conservation efforts for candidate species. For additional information regarding such assistance, see FOR FURTHER INFORMATION CONTACT.

On September 21, 1983, we published guidance for assigning a listing priority number (LPN) for each candidate species (48 FR 43098). Guidelines for such a priority-ranking guidance system are required under section 4(h)(3) of the Act (15 U.S.C. 1533(h)(3)). Using this guidance, we assign each candidate an LPN of 1 to 12, depending on the magnitude of threats, immediacy of threats, and taxonomic status; the lower the LPN, the higher the listing priority (that is, a species with an LPN of 1 would have the highest listing priority). As explained below, we first categorize based on the magnitude of the threat(s), then by the immediacy of the threat(s), and finally by taxonomic status.

Under this priority-ranking system, magnitude of threat can be either “high” or “moderate to low.” This criterion helps ensure that the species facing the greatest threats to their continued existence receive the highest listing priority. It is important to recognize that all candidate species face threats to their continued existence, so the magnitude of threats is in relative terms. When evaluating the magnitude of the threat(s) facing the species, we consider information such as: the number of populations and/or extent of range of the species affected by the threat(s); the biological significance of the affected population(s), the life-history characteristics of the species and its current abundance and distribution; and whether the threats affect the species in only a portion of its range.

As used in our priority ranking system, immediacy of threat is categorized as either “imminent” or “nonimminent.” It is not a measure of how quickly the species is likely to become extinct if the threats are not addressed; rather, immediacy is based on when the threats will begin. If a threat is currently occurring or likely to occur in the very near future, we classify the threat as imminent. Determining the immediacy of threats helps ensure that species facing actual, identifiable threats are given priority for listing proposals over those for which threats are only potential or species that are intrinsically vulnerable to certain types of threats, but are not known to be presently facing such threats.

Our priority-ranking system has three categories for taxonomic status: Species that are the sole members of a genus; full species (in genera that have more than one species); and subspecies and distinct population segments of vertebrate species (DPSs). The result of the ranking system is that we assign each candidate a listing priority number of 1 to 12. For example, if the threats are of high magnitude, with immediacy classified as imminent, the listable entity is assigned an LPN of 1, 2, or 3 based on its taxonomic status (i.e., a species that is the only member of its genus would be assigned to the LPN 1 category, a full species to LPN 2, and a subspecies or DPS would be assigned to LPN 3). In summary, the LPN ranking system provides a basis for making decisions about the relative priority for preparing a proposed rule to list a given species. Each species included in this CNOR-FS is one for which we have sufficient information to prepare a proposed rule to list, because it is in danger of extinction or likely to become endangered within the foreseeable future throughout all or a significant portion of its range.

For more information on the process and standards used in assigning LPNs, a copy of the guidance is available at: http://www.fws.gov/endangered/esa-library/pdf/1983_LPN_Policy_FR_pub.pdf. A rationale for the determination of the magnitude and imminence of threat(s) and assignment of the LPN is presented in this CNOR-FS. For more information on the LPN assigned to a particular species, see the supporting documentation at http://www.regulations.gov at Docket No. FWS-HQ-ES-2016-0072.

Request for Information

With this CNOR-FS, we request additional information for the 20 taxa whose listings are warranted but precluded by higher-priority proposals to determine whether any species is an endangered or threatened species. We will consider this information in preparing listing documents or future resubmitted petition findings for these 20 taxa. This information will also help us to monitor the status of the taxa and conserve them. We request the submission of any further information on the species in this CNOR-FS as soon as possible, or whenever it becomes available. We especially seek information:

(1) Indicating that we should remove a taxon from consideration for listing;

(2) Documenting threats to any of the included taxa;

(3) Describing the immediacy or magnitude of threats facing these taxa;

(4) Identifying taxonomic or nomenclatural changes for any of the taxa; or

(5) Noting any mistakes, such as errors in the indicated historical ranges.

You may submit your information concerning this CNOR-FS in general or for any of the species included in this CNOR-FS as described in ADDRESSES.

Previous Publications

We called our previous reviews of foreign species an “Annual Notice of Review,” or “ANOR.” In this review, we use the term “Candidate Notice of Review of Foreign Species (CNOR-FS)” to better align with terminology and processes used for our Candidate Notice of Review of native species—meaning those species native to the United States.

Nineteen of the species discussed in this CNOR-FS are the result of three separate petitions submitted to the U.S. Fish and Wildlife Service (Service) to list a number of foreign bird and butterfly species as endangered or threatened under the Act. We received petitions to list the 13 foreign bird species included in this CNOR-FS on November 24, 1980, and May 6, 1991. We found the petitions presented substantial scientific or commercial information indicating that listing these 13 species may be warranted on May 12, 1981 and December 16, 1991, respectively (46 FR 26464 and 56 FR 65207), and first identified them as candidates on May 21, 2004 (69 FR 2935). On January 10, 1994, we received a petition to list seven butterfly species as endangered or threatened, and we found the petition presented substantial scientific or commercial information indicating that listing these species may be warranted on May 10, 1994 (59 FR 24117). On December 7, 2004, we identified five of the seven butterflies as candidates and two were determined to be “not warranted” (69 FR 70580). Our most recent ANOR was published on April 25, 2013 (78 FR 24604). Our current revised CNOR-FS supersedes all previous ANORs/Notices.

Status Assessment of Foreign Candidate Species and Findings on Resubmitted Petitions

Since the publication of our previous ANOR on April 25, 2013 (78 FR 24604), we reviewed the available information on candidate species to determine whether listing remains warranted for each species and, if so, reevaluated the relative LPN assigned to each species. We also evaluated the need to emergency list any of these species, particularly species with high listing priority numbers (i.e., species with LPNs of 1, 2, or 3). This review ensures that we focus conservation efforts on those species at greatest risk first. In addition to reviewing foreign candidate species since publication of the last ANOR, we have worked on numerous findings in response to petitions to list species and on proposed and final determinations for rules to list, delist, or downlist species under the Act. Some of these findings and determinations have been completed and published in the Federal Register, while work on others is still under way (see Preclusion and Expeditious Progress section, below, for details).

The current number of foreign species that are candidates for listing is 20. Based on our current review, we find that one species (the Codfish Island fernbird) has recovered and no longer warrants listing; therefore, we removed this species from the candidate list. We also find that the southern helmeted curassow is actually two species, the southern helmeted or horned curassow endemic to Bolivia (Pauxi unicornis) and the Sira curassow endemic to Peru (Pauxi koepckeae). Thus, we find that 20 species continue to warrant listing, but their listing remains precluded by higher-priority proposals to determine whether any species is an endangered species or a threatened species. Lastly, we have assigned an LPN of 2 for the Sira curassow and have changed the LPNs for the Brasilia tapaculo, the Harris' mimic swallowtail butterfly, and the fluminense swallowtail butterfly.

This CNOR-FS summarizes the current status of, and threats to, the 20 species we previously determined qualified as candidates (78 FR 24604; April 25, 2013). It also serves to reevaluate the assigned listing priority number given any changes in taxonomy or threats, and includes our findings on resubmitted petitions for 20 foreign species. We have considered all of the new information that we have obtained since the previous finding, and we have reviewed in accordance with our Listing Priority Guidance the LPN of each taxon for which proposed listing continues to be warranted but precluded. Based on our review of the best available scientific and commercial information, with this CNOR-FS, we are removing one species from the candidate list due to recovery and we are adding an additional species to the list, the Sira curassow (Pauxi koepckeae), which was determined to be a separate species from the petitioned southern helmeted curassow (Pauxi unicornis).

We emphasize that we are not proposing these species for listing, but we do anticipate developing and publishing proposed listing rules for these species in the future, with the objective of making expeditious progress in addressing all 20 of these foreign species within a reasonable timeframe.

Table 1 provides a summary of all updated determinations of the 20 taxa in our review. The column labeled “Priority” indicates the LPN. Following the scientific name of each taxon (third column) is the family designation (fourth column) and the common name, if one exists (fifth column). The sixth column provides the known historical range for the taxon. The avian species in table 1 are listed taxonomically.

Table 1—Species in 2016 Candidate Notice of Review of Foreign Species
[C = Candidate (listing is warranted but precluded); Rc = Removing candidate from the list (listing is no longer warranted]
Status: Category | Status: Priority | Scientific name | Family | Common name | Historical range
Birds
C | 2 | Pauxi unicornis | Cracidae | southern helmeted curassow | Bolivia.
C | 2 | Pauxi koepckeae | Cracidae | Sira curassow | Peru.
C | 2 | Rallus semiplumbeus | Rallidae | Bogotá rail | Colombia.
C | 8 | Porphyrio hochstetteri | Rallidae | takahe | New Zealand.
C | 8 | Haematopus chathamensis | Haematopodidae | Chatham oystercatcher | Chatham Islands, New Zealand.
C | 8 | Cyanoramphus malherbi | Psittacidae | orange-fronted parakeet | New Zealand.
C | 8 | Eunymphicus uvaeensis | Psittacidae | Uvea parakeet | Uvea, New Caledonia.
C | 8 | Dryocopus galeatus | Picidae | helmeted woodpecker | Argentina, Brazil, Paraguay.
C | 2 | Dendrocopos noguchii | Picidae | Okinawa woodpecker | Okinawa Island, Japan.
C | 2 | Aulacorhynchus huallagae | Ramphastidae | yellow-browed toucanet | Peru.
C | 8 | Scytalopus novacapitalis | Rhinocryptidae | Brasilia tapaculo | Brazil.
Rc |  | Bowdleria punctata wilsoni | Sylviidae | Codfish Island fernbird | Codfish Island, New Zealand.
C | 2 | Zosterops luteirostris | Zosteropidae | Ghizo white-eye | Solomon Islands.
C | 8 | Tangara peruviana | Thraupidae | black-backed tanager | Brazil.
C | 6 | Strepera graculina crissalis | Cracticidae | Lord Howe Island pied currawong | Lord Howe Island, New South Wales.
Invertebrates (Butterflies)
C | 3 | Mimoides (= Eurytides or Graphium) lysithous harrisianus | Papilionidae | Harris' mimic swallowtail | Brazil.
C | 2 | Protographium (= Eurytides or Graphium or Neographium or Protesilaus) marcellinus | Papilionidae | Jamaican kite swallowtail | Jamaica.
C | 2 | Parides ascanius | Papilionidae | Fluminense swallowtail | Brazil.
C | 2 | Parides hahneli | Papilionidae | Hahnel's Amazonian swallowtail | Brazil.
C | 8 | Teinopalpus imperialis | Papilionidae | Kaiser-i-Hind swallowtail | Bhutan, China, India, Laos, Myanmar, Nepal, Thailand, Vietnam.
Mollusc
C | 2 | Mulinia coloradoensis | Mactridae | Colorado delta clam | Mexico.

We will continue to monitor the status of these species as new information becomes available (see Monitoring, below). Our review of new information will determine if a change in status is warranted, including the need to emergency list any species or change the LPN of any of the species. In the following sections, we describe our findings for the individual species. The summaries are based on information contained in our files, including any petitions we received.

New Candidates

Sira curassow (Pauxi koepckeae)—We added the Sira curassow as a new candidate species. In previous ANORs, we evaluated two bird subspecies under the genus Pauxi, the southern helmeted curassow or horned curassow (P. unicornis unicornis) from Bolivia and the Sira curassow (P. unicornis koepckeae) from Peru. The ranges of the two curassows are separated by approximately 2,000 kilometers (km) (1,243 miles (mi)). In 2014, BirdLife International's (BLI) Taxonomic Working Group evaluated all non-passerines (non-perching birds), including the southern helmeted curassow, applying quantitative criteria for species delimitation, using a scoring system to examine differences in morphology, vocalizations, ecology, and geographical relationships—the results of which elevated both of these subspecies to species: P. unicornis and P. koepckeae. Although BLI and International Union for the Conservation of Nature (IUCN) now recognize these as full species, the Integrated Taxonomic Information System (ITIS) continues to recognize P. unicornis as a full species with P. unicornis unicornis and P. unicornis koepckeae as subspecies. Based upon review of the available information, we consider these two curassows (P. unicornis and P. koepckeae) as valid, full species. Therefore, we have expanded our review to include the Sira curassow (P. koepckeae), and have added the Sira curassow to table 1. More information on Sira curassow is provided below and in the supporting documents for this CNOR-FS.

The Sira curassow is a game bird that is known only from the Cerros del Sira region of Peru. Size and coloration are similar to the southern helmeted curassow, but the Sira curassow has a shorter and rounder pale-blue casque (a horn-like bony appendage above the bill) that is flattened against the head. The Sira curassow inhabits cloud-forest habitat (a type of rainforest that occurs on high mountains in the tropics) at elevations from 1,100 to 1,450 meters (m) (3,609-4,757 feet (ft)) and above.

Although historical population data are lacking, the population is currently estimated at fewer than 250 mature individuals and is declining. The primarily cause of the decline is ongoing hunting by local communities. Additionally, the Sira curassow's habitat is being degraded by subsistence agriculture, forest clearing, road building, and associated rural development. Although the Sira curassow is legally protected in a large portion of its range in El Sira Communal Reserve, illegal hunting still occurs there. The species is classified as critically endangered on the IUCN Red List. It is not threatened by international trade, and it is not listed in any appendices of the Convention on International Trade in Endangered Species of Wild Fauna and Flora (CITES). In the previous ANOR, both the southern helmeted curassow and the Sira curassow had an LPN of 2. Now that the Sira curassow, Pauxi koepckeae, is a valid, distinct species, we have reevaluated the species and conclude that an LPN of 2 continues to be accurate. The Sira curassow does not represent a monotypic genus. It faces threats that are high in magnitude based on its small estimated population and limited range. The few locations where it is believed to exist continue to face pressure from hunting and habitat loss. The best scientific information available indicates that the population decline will continue in the future. Because the species is experiencing significant population declines and ongoing habitat loss and degradation, we have assigned an LPN of 2 to reflect imminent threats of high magnitude.

Listing Priority Changes in Candidates

We reviewed the LPNs for all candidate species and are changing the LPNs for the following three species discussed below. More information on these species may be found in the supporting documents for this CNOR-FS.

Birds

Brasilia tapaculo (Scytalopus novacapitalis)—The Brasilia tapaculo is a small, secretive ground-dwelling bird with limited flight ability. The tapaculo is found in gallery-forest habitat that is a smaller component of the wider tropical savanna or “Cerrado” of the Central Goiás Plateau of Brazil. Gallery forests are narrow fringes of thick streamside vegetation that occur on the edges of rivers and streams at elevations of approximately 800-1,000 m (2,625-3,281 ft). The Brasilia tapaculo is described as “rare,” but the population size is unknown. Despite a lack of data on population trends, declines are suspected to be occurring, owing to habitat loss and degradation in the Cerrado. It is known to occur in six protected areas and has been found on private land next to protected areas. Protected areas are limited in extent and size. Only 1.2 percent of the Cerrado is in protected areas and those protected areas are not distributed evenly across the region. Additionally, there are few protected areas of more than 25,000 hectares (61,776 acres).

The primary threat to the species is loss and degradation of its habitat. The Cerrado is the largest, most diverse, and possibly most threatened tropical savanna in the world. Land in the Cerrado is currently being converted to soybean and rice plantations. At current rates, the remaining natural habitat in the Cerrado is predicted to be converted to other uses by 2030. The tapaculo's gallery-forest habitat has been less affected by clearing for agriculture than the surrounding Cerrado. However, larger impacts to the Cerrado are certain to affect gallery forests; erosion and deterioration of streams is increasing, and wetland drainage and the diversion of water for irrigation and annual burning of adjacent grasslands is expected to limit the availability and extent of suitable habitat for the Brasilia tapaculo.

The Brazilian national authority on wildlife, Instituto Chico Mendes de Conservação da Biodiversidade (ICMBio), categorizes Brasilia tapaculo as endangered based on severe fragmentation of populations and continued decline in habitat. The IUCN Red List categorizes the species as “Near Threatened.” It is not threatened by international trade and is not listed in any appendices of CITES.

In the previous ANOR, we assigned the Brasilia tapaculo an LPN of 11. After reevaluating the available information, we find that a change to an LPN of 8 is appropriate. The Brasilia tapaculo does not represent a monotypic genus. The threat to the species is of moderate magnitude and is imminent. The species has a fairly wide geographic range but is endemic to the Cerrado and strongly associated with gallery forests, a very small component of the Cerrado. The drastic conversion of the Cerrado is ongoing. The populations currently appear to be found only in or next to a handful of protected areas and most of these areas are small. The species is reported as rare, even in protected areas. Thus, based on review of the best available scientific and commercial information, the LPN has been changed from 11 to 8 to reflect imminent threats of moderate magnitude.

Invertebrates (Butterflies)

Harris' mimic swallowtail (Mimoides lysithous harrisianus)—The Harris' mimic swallowtail is a subspecies that inhabits the restinga (sand forest) habitats of the coastal Atlantic Forest of Brazil. It historically occurred in southern Espirito Santo State and along the coast of the State of Rio de Janeiro, Brazil. More recent records are from three locations in the State of Rio de Janeiro, but we could not find recent population information for the subspecies.

Habitat destruction has been the main threat and is ongoing. Based on a number of estimates, 88 to 95 percent of the area historically covered by tropical forests within the Atlantic Forest biome has been converted or severely degraded as the result of human activities. In addition to the overall loss and degradation of its habitat, the remaining tracts of its habitat are severely fragmented. Habitat loss due to sea-level rise may also affect this coastal subspecies, and losses may be compounded by an increased demand by humans to use remaining land for housing and infrastructure.

Another factor affecting this butterfly is collection. In previous ANORs we suspected that collection may be a stressor for this species but have now noted sale of the subspecies on the internet. The Harris' mimic swallowtail is on the list of Brazilian fauna threatened with extinction, and collection and trade of the subspecies is prohibited. However, we recently found three online advertisements for the Harris' mimic swallowtail at prices ranging from 990 to 1,950 Euros each (approximately 1,118 to 2,182 U.S. dollars (USD)) indicating that illegal collection and trade may be occurring and demand for this butterfly is high. Harris' mimic swallowtail is not currently on the IUCN Red list, although it was identified as a “Threatened and Extinct Subspecies” in the family Papilionidae in the 1994 IUCN Red List. The subspecies has not been formally considered for listing in the appendices to CITES. It is also not regulated on the annexes to European Union Wildlife Trade Regulations.

In the previous ANOR, the Harris' mimic swallowtail was assigned an LPN of 6. After reevaluating the threats to this species, we have determined that a change to an LPN of 3 is appropriate. Harris' mimic swallowtail is a subspecies that is not within a monotypic genus. Although the best-studied colony has maintained a stable and viable size for nearly two decades, there is limited recent information on status. Threats are high in magnitude due to the existence of only a few, small fragmented colonies, and the potential for catastrophic events such as severe tropical storms, fire or introduction of a new disease or predator. Additionally, although the subspecies is protected by Brazilian law and the colonies are located within protected areas, the high price advertised online for specimens indicates that there is demand for the subspecies, likely from illegal collection. Because the population is very small and limited to only three known colonies, removal of individuals from the remaining small, fragmented colonies could, in combination with other stressors, contribute to local extirpations. We find these threats are of high magnitude and based on the best available information, we have changed the LPN from 6 to 3 to reflect imminent threats of high magnitude for this subspecies.

Fluminense swallowtail (Parides ascanius)—The fluminense swallowtail (Parides ascanius) also inhabits the restinga (sand forest) habitats of the coastal Atlantic Forest of Brazil within the State of Rio de Janeiro. The overall number of populations reported for the species has declined from “fewer than 20 colonies” in 1994 to 8 in 2015. Genetic analysis of the eight remaining populations is consistent with metapopulation dynamics (a group of separate populations that has some level of mixing) with low genetic diversity and trending towards increased isolation of these populations from urban development. Habitat loss, degradation, and fragmentation are the principal threats to this species. The species occupies highly specialized habitat and requires large areas to maintain a viable colony. Only one of the eight known populations is presently found within a large protected area (Poço das Antas Biological Reserve), and the majority of the remaining populations are on smaller, fragmented parcels with limited or no protections. Collection and commercial exploitation (see Harris' mimic swallowtail above) were also identified as possible factors affecting the fluminense swallowtail. The species is located near urban areas and is easy to capture. The impact of illegal collection to the fluminense swallowtail is difficult to assess, but removal of individuals from the remaining small, fragmented populations could, in combination with other stressors, contribute to local extirpations.

The fluminense swallowtail butterfly was the first invertebrate to be officially noted on the list of Brazilian animals threatened with extinction in 1973. It has been classified as “Vulnerable” by the IUCN Red List since 1983, although it is now marked as “Needs Updating.” The species is currently categorized by Brazil as “Imperiled.” It has not been formally considered for listing in the appendices to CITES. However, it is listed on annex B of the European Union Trade Regulation.

In the previous ANOR, the fluminense swallowtail was assigned an LPN of 5. After reevaluating the factors affecting the fluminense swallowtail and its population decline, we have determined that a change in the listing priority number to 2 is appropriate. The fluminense swallowtail does not represent a monotypic genus. The overall number of populations recorded for the species has declined and most of the remaining populations are small and fragmented. The species is currently affected by habitat destruction, which is high in magnitude and imminence. Despite the conservation measures in place, some of the remaining small populations may be impacted by illegal collection. On the basis of this new information, we have changed the LPN for the fluminense swallowtail from 5 to 2.

Candidate Removals

Codfish Island fernbird (Bowdleria punctata wilsoni)—We have evaluated the threats to the Codfish Island fernbird (Bowdleria punctata wilsoni) and considered factors that, individually and in combination, currently or potentially could pose a risk to the species and its habitat. After a review of the best available scientific and commercial data, we conclude that listing this species under the Act is not warranted because it is not likely to become an endangered species within the foreseeable future throughout all or a significant portion of its range. Therefore, we no longer consider the Codfish Island fernbird to be a candidate species for listing. We will continue to monitor the status of this species and to accept additional information and comments concerning this finding. We will reconsider our determination in the event that we gather new information that indicates that the threats are of a considerably greater magnitude or imminence than identified through assessments of information contained in our files, as summarized below. More information on this species may be found in the supporting documents for this CNOR-FS.

The Codfish Island fernbird is a small, insect-eating songbird native to Codfish Island, New Zealand. Codfish Island is a nature reserve, located 3 km (1.8 mi) off the northwest coast of Stewart Island. The subspecies was also successfully introduced to Putauhinu Island, approximately 40 km south of Codfish Island, in the late 1990s. The Codfish Island fernbird is secretive, and its main habitat is the pakihi, which consists of dense vegetation 0.9 to 2.1 m (3 to 7 ft) high. Fernbirds will also occupy forest habitats as long as rat populations are absent. Fernbirds are poor fliers that typically scramble through vegetation, though they occasionally fly short distances.

At its lowest point, in the early 1970s, the population was estimated to be less than 100 individuals. Although there is no current estimate of the size of the Codfish Island fernbird population, the population on Codfish Island as of 2007 was believed to be “several hundred,” with an additional 200-300 birds on Putauhinu Island, based on incidental encounter rates in the various habitats. Populations on both islands appear to have expanded into all available habitats and appear to be stable and secure. Historically, Codfish Island fernbird populations were greatly reduced in number due to predation by Polynesian rats and weka (Gallirallus australis), a flightless woodhen that is endemic to New Zealand. Codfish Island's native vegetation was also modified by the introduced Australian brush-tailed possum (Trichosurus vulpecula). These threats have now been eliminated through intensive eradication efforts. The Codfish Island fernbird population has rebounded strongly with the removal of nonnative predators in the 1980s and 1990s. Additionally, forest habitat is now regenerating, and the fernbird has successfully recolonized and expanded its range on Codfish Island. With the introduction of the fernbird to a second island that is free of nonnative predators, the primary threats to the species have been eliminated.

Neither the IUCN nor BLI have assessed the status of this subspecies. The New Zealand Department of Conservation (NZDOC) categorizes the Codfish Island fernbird as a range-restricted island endemic that is “naturally uncommon.” It is not listed in any appendices of CITES.

In the previous ANOR, the Codfish Island fernbird was assigned an LPN of 12. After reevaluating the available information, we find that this subspecies no longer warrants listing. Although it is an island endemic that is restricted in range, the primary threat to the species—nonnative predators—has been removed, and the population has responded and expanded throughout its known historical range on Codfish Island, occupying all available habitats. In addition, conservation efforts by NZDOC have resulted in the establishment of a second population on Putauhinu island that is free of nonnative predators, and that population has expanded and appears to be secure. Finally, the two islands occupied by the Codfish Island fernbird have restricted access, such that reestablishment of nonnative predators is extremely unlikely. In the unlikely event of nonnative predators reappearing on either island, NZDOC has a proven track-record of success in eradicating mammalian predators from these islands. Therefore, we have determined that this subspecies no longer warrants listing and are removing it from the candidate list.

Findings for Petitioned Candidate Species

Birds

Southern helmeted curassow (Pauxi unicornis)—Like the Sira curassow (see above), the Southern helmeted curassow is a game bird with a distinctive pale-blue horn-like appendage, or casque, above its bill. The southern helmeted curassow is known only from central Bolivia on the eastern slope of the Andes, where large portions of its habitat are in National Parks. The species inhabits dense, humid, foothill and lower montane forest and adjacent evergreen forest at altitudes between 450 and 1,500 m (1,476 to 4,921 ft).

The total population of southern helmeted curassow is estimated to be between 1,500 and 7,500 individuals and is declining. Hunting is believed to be the primary threat to the species, followed by habitat loss and degradation. Although the National Parks have been important for the preservation of the species, financial and human resources needed to protect park resources are limited. Within the Parks, there are human settlements and ongoing encroachment, including illegal logging operations and forest clearing for farming. Rural development and road building limit the species' ability to disperse. Range reductions due to climate change are also predicted for the southern helmeted curassow, when warming temperatures may cause the species to shift its distribution upslope and outside of protected National Parks.

The southern helmeted curassow is classified as critically endangered on the IUCN Red List. Trade has not been noted internationally, and the species is not listed in any appendices of CITES. The species is listed in annex D of the European Union Trade Regulations.

In the previous ANOR, the southern helmeted curassow was assigned an LPN of 2. After reevaluating the threats to the species, we have determined that no change in the LPN is warranted. The southern helmeted curassow does not represent a monotypic genus. It faces threats that are high in magnitude based on its small, limited range. The few locations where it is believed to exist continue to face pressure from hunting and habitat loss and destruction, and population decline will likely continue. Because the species is experiencing ongoing significant population declines and habitat loss, we have made no change to the LPN of 2, which reflects imminent threats of high magnitude.

Bogotá rail (Rallus semiplumbeus)—The Bogotá rail is found in the East Andes of Colombia, South America. It is a medium-sized nonmigratory rail largely restricted to areas at elevations from 2,500-4,000 m (8,202-13,123 ft) in and surrounding Bogotá, Columbia, on the Ubaté-Bogotá Plateau. This region formerly supported vast marshes and swamps, but few lakes with suitable habitat for the rail remain. The species is secretive, and wetland habitats most frequently used by rail are fringed by dense vegetation-rich shallows. The current population size of the Bogotá rail is estimated between 1,000 and 2,499 mature individuals and is thought to be declining. The primary threat to the rail is habitat loss and degradation. Approximately 8 million people live in the City of Bogotá and 11 million in the larger metro area. The wetlands have experienced a 97-percent loss in historical extent with few suitably vegetated marshes remaining. Additionally, road building may result in further colonization and human interference, including introduction of nonnative species in previously stable wetland environments. The Bogotá rail is listed as endangered at the global and national level by IUCN. Trade does not appear to be of concern at the international level, and the species is not listed in any appendices of CITES.

In the previous ANOR, the Bogotá rail was assigned an LPN of 2. After reevaluating the threats to this species, we have determined that no change in the LPN for the species is needed. The Bogotá rail does not represent a monotypic genus. It faces threats that are high in magnitude due to the pressures on the species' habitat. Its range is very small and is rapidly contracting because of widespread habitat loss and degradation. Although portions of the Bogotá rail's range occur in protected areas, most of the savanna wetlands are unprotected. The population is small and is believed to be rapidly declining. The factors affecting the species are ongoing, and are, therefore, imminent. Thus, the LPN remains at 2 to reflect imminent threats of high magnitude.

Takahe (Porphyrio hochstetteri)—The takahe is a large flightless bird in the rail family. The takahe was once widespread in the forest and grassland ecosystems of New Zealand. It was thought to be extinct until it was rediscovered in the Murchison Mountains on the South Island of New Zealand in 1948. In addition to its native range on the mainland, the takahe has been introduced to offshore islands and mainland sanctuaries.

When rediscovered in 1948, it was estimated that the takahe population consisted of 100 to 300 birds; in 2013, the population was estimated at 227 adult birds. Several factors have historically led to the species' decline, including hunting, competition from introduced herbivores (animals that feed on plants), and predators such as weasels and the weka, a flightless woodhen that is endemic to New Zealand. Currently, weasel predation appears to be the most significant of these threats. Weasel trapping is an effective tool at slowly increasing survival and reproductive output of takahe; however, control efforts do not completely eliminate the threat. Takahe is a long-lived bird, potentially living between 14 and 20 years, and has a low reproductive rate, with clutches consisting of one to three eggs. Severe weather in the Murchison Mountains (cold winters and high snowfall) may also be a limiting factor to the takahe. The population of takahe remains very small and has low genetic diversity relative to other species. The NZDOC is currently attempting to manage further loss of genetic diversity through translocations. Additionally, NZDOC has implemented a captive-breeding and release program to supplement the mainland population and has established several reserve populations on islands and fenced mainland sites; these actions are having a positive effect on population growth. The takahe is listed as endangered on the IUCN Red List, and New Zealand considers it to be a nationally critical species. It is not listed in any appendices of CITES as international trade is not a concern.

In the previous ANOR, the takahe was assigned an LPN of 8. After reevaluating the threats to the takahe, we have determined that no change in the classification of the magnitude and imminence of threats to the species is warranted at this time. The takahe does not represent a monotypic genus. Although it has a small population, limited suitable habitat, and may experience inbreeding depression, because the NZDOC is actively involved in measures to aid the recovery of the species, we find the threats are moderate in magnitude. Despite conservation efforts, the threats are ongoing and, therefore, imminent. Lack of suitable habitat and predation, combined with the takahe's small population size and naturally low reproductive rate, are threats to this species that are moderate in magnitude. Thus, the LPN remains at 8 to reflect imminent threats of moderate magnitude.

Chatham oystercatcher (Haematopus chathamensis)—The Chatham oystercatcher is native to the Chatham Island group located 860 km (534 mi) east of mainland New Zealand. The species breeds along the coastline of four islands in the chain: Chatham, Pitt, Rangatira, and Mangere. The Chatham oystercatcher is found mainly along rocky shores, including wide volcanic rock platforms and occasionally on sandy or gravelly beaches.

The Chatham oystercatcher is the rarest oystercatcher in the world, with a recent population estimate of 309 birds. The species has experienced a three-fold increase in its population since the first reliable census was conducted in 1987. Most of this increase occurred during a period of intensive management, especially predator control, from 1998 through 2004. The Chatham oystercatcher is listed as nationally critical by the NZDOC. It is classified as “Endangered” on the IUCN Red List and is not listed in any appendices of CITES.

Predation of eggs and chicks, and to a lesser extent of adults, is thought to be the main impediment to the Chatham oystercatcher population. Although Mangere and Rangatira nature reserves are free of all mammalian predators, nonnative mammalian predators inhabit Chatham and Pitt Islands. Feral cats are the most common predator on eggs. Other documented predators include gulls (Larus spp.), the native brown skua (Catharacta antarctica), weka, and domestic dogs. Nest destruction and disturbance by humans and livestock are also noted threats. Habitat loss and degradation has occurred from introductions of nonnative Marram grass (Ammophila arenaria) in the early 1900s to re-vegetate destabilized dunes. The dense marram grass is unsuitable for Chatham oystercatcher nesting. Consequently, the Chatham oystercatcher is forced to nest closer to shore, where nests are vulnerable to tides and storm surges; up to 50 percent of eggs are lost in some years. Rising sea levels associated with climate change will likely affect future nesting success.

In the previous ANOR, the Chatham oystercatcher was assigned an LPN of 8. After reevaluating the threats to this species, we have determined that no change in the classification of the magnitude and imminence of threats to the species is warranted. The Chatham oystercatcher does not represent a monotypic genus. The current population estimate is very small, and the species has a limited range, but NZDOC has taken measures to recover the species and the population is slowly growing. However, threats (predation, trampling, low population numbers, and loss of eggs due to storm surges) are ongoing and, thus, are imminent. The LPN remains an 8 to reflect imminent threats of moderate magnitude.

Orange-fronted parakeet (Cyanoramphus malherbi)—The orange-fronted parakeet was once well distributed on the South Island of mainland New Zealand and a few offshore islands. It is now considered the rarest parakeet in New Zealand. Remaining naturally occurring populations are restricted to limited range (30 km (18.6 mi)) of four areas of subalpine mature beech forests (Nothofagus spp.), on the South Island. Orange-fronted parakeets have also been released onto four predator-free islands where breeding has been confirmed.

The species' range contracted when its population was severely reduced in the late 1800s and early 1900s for unknown reasons. Information on current population status is mixed, but optimistic. The population experienced another crash in 1990-2000 following rat invasions. The population is still small and has declined over the last decade with estimates between 290 and 690 individuals in early 2013. The 2013 estimates indicated further declines on the mainland and, during a 14-year period (approximately three generations), a reduction in the number of mature birds. More recently, the global population is reported as increasing due to successful translocations to predator-free islands and control of predators in its range on the South Island.

The most prominent factors affecting the species on the mainland are predation by nonnative mammals such as weasels and rats (Rattus spp.), as well as habitat destruction. Habitat loss and degradation has affected large areas of native forest on the mainland. In addition, silviculture (care and cultivation) of beech forests in the past had removed mature trees with nest cavities needed by the parakeet. The species' habitat is also degraded by introduced herbivores that alter forest structure in a way that reduces the available feeding habitat for the parakeet. Lastly, Beak and Feather Disease Virus (BFDV) is a potential threat to this species. The disease was discovered in wild native birds in New Zealand in 2008 (e.g., the red-fronted parakeet, Cyanoramphus novaezelandiae) though it has not been documented in the orange-fronted parakeet. Infected birds either develop immunity, die within a couple of weeks, or become chronically infected. Chronic infections result in feather loss and deformities of beak and feathers.

In the previous ANOR, the orange-fronted parakeet was assigned an LPN of 8. After reevaluating the factors affecting the species, we have determined that no change in the classification of the magnitude of threats to the species is warranted because NZDOC is actively managing the species. The orange-fronted parakeet does not represent a monotypic genus. Although the species' available suitable nesting habitat in beech forests is extremely limited, translocations have taken place and seem to be successful. However, the population is still small and vulnerable to several threats despite management efforts that may have stabilized the population (albeit at small numbers). Small populations may also be vulnerable to stochastic events, including disease outbreaks such as BFDV. We find that the threats to this species are still imminent; thus, the LPN remains at 8 to reflect imminent threats of moderate magnitude.

Uvea parakeet (Eunymphicus uvaeensis)—The Uvea parakeet is a relatively large, green parakeet found on the small atoll of Uvea, located approximately 1,500 km (932 mi) east of Australia in the Loyalty Archipelago, New Caledonia (a territory of France). The entire island of Uvea is considered an Important Bird Area by BirdLife International which works with communities to combine conservation with sustainable livelihoods. To date, however, we are unaware of any designated reserves or provincial parks. Uvea parakeets were introduced to the adjacent island of Lifou (to establish a second population) in 1925 and 1963, but these introductions failed. The species occupies both the north and south end of Uvea Island. The species primarily uses older (old-growth) forest habitats and nests in the cavities of living Syzygium and Mimusops trees. Their exclusive use of tree cavities for nesting may be a limiting factor. In 1977, the Uvea parakeet population was estimated to be between 500 to 800 individuals. More recent analyses provided two population estimates of approximately 1,730 birds with varying confidence intervals.

Historically, the primary threat to this species was the capture of juveniles for the pet trade, which involved cutting open nesting cavities to extract nestlings; this practice renders the holes unsuitable for future nesting. Since restrictions have been put into place and the species has been more closely monitored, it appears that nest poaching is no longer occurring such that it significantly affects this species, and the population has increased. Other identified threats to the species include: Habitat degradation and conversion, loss of nesting cavities to bees, loss of habitat through climate change, and the potential for introduction of nonnative predators. Artificial nests are being installed to increase available nesting sites; however, Uvea parakeets have not yet used the artificial nests provided. Uvea is a low-elevation and relatively flat island. Climate change (and associated sea-level rise) will likely result in loss of forest habitat or important food species and is considered a substantial threat to the persistence of Uvea parakeets. The limited occupied range of the species (only 34 km² (13 mi²)) in a few fragmented patches on Uvea, amplifies this threat. Uvea parakeet is listed as “Endangered” on the IUCN Red List. It is listed in appendix I of CITES and annex A of the European Union Trade Regulations.

In the previous ANOR, the Uvea parakeet was assigned an LPN of 8. After reevaluating the threats to this species, we have determined that no change in the classification of the magnitude and imminence of threats to the species is warranted. The Uvea parakeet does not represent a monotypic genus. The Uvea parakeet has a limited distribution on a single small island with limited remaining old-growth forest on which the bird depends for nesting cavities. The population has increased in size due to conservation, education, a ban on commercial trade, and a reduction in poaching; however, several threats (including habitat loss, loss of nesting cavities and effects from climate change) are still present and ongoing and, therefore, imminent. The LPN remains an 8 to reflect imminent threats of moderate magnitude.

Helmeted woodpecker (Dryocopus galeatus)—The helmeted woodpecker is a fairly small woodpecker native to regions of southern Brazil, eastern Paraguay, and northeastern Argentina. Its characteristic habitat is expansive, well-preserved southern Atlantic Forest in both lowland and montane areas from sea level up to elevations of 1,000 m (3,280 ft). It is believed to prefer mature (old-growth) trees in tropical and subtropical semi-deciduous forests as well as in mixed deciduous-coniferous forests.

The helmeted woodpecker's population is believed to have declined sharply between 1945 and 2000 in conjunction with the clearing of mature forest habitat and is currently estimated at 400-8,900 individuals. Although forest clearing has recently slowed, and the species occurs in at least 17 protected areas throughout its range, habitat degradation continues and the population is still believed to be declining. The principal threat to the helmeted woodpecker is loss, degradation, and fragmentation of its Atlantic forest habitat. Competition for nest cavities is also likely a limiting factor. The helmeted woodpecker is one of the rarest woodpecker in the Americas. It is listed as endangered in Brazil and as vulnerable by the IUCN. It is not listed in any appendices of CITES.

In the previous ANOR, the helmeted woodpecker was assigned an LPN of 8. After reevaluating the available information, we find that no change in the LPN for the helmeted woodpecker is warranted. The helmeted woodpecker does not represent a monotypic genus. The magnitude of threats to the species is moderate because the species' range is fairly large. The threats are imminent because the forest habitat upon which the species depends is still being altered and degraded. An LPN of 8 continues to be accurate for this species.

Okinawa woodpecker (Dendrocopos noguchii syn. Sapheopipo noguchii)—The Okinawa woodpecker is a relatively large woodpecker found on Okinawa Island, Japan. The species prefers undisturbed, mature, subtropical evergreen broadleaf forests. It currently occurs within the forested areas in the northern part of the island, generally in the Yambaru forest, and in some undisturbed forested in coastal areas. Most of the older forests that support the species are within the Jungle Warfare Training Center (formerly, the Northern Training Area), part of the United States Marine Corps installation on Okinawa Island.

The Okinawa woodpecker is considered one of the world's rarest woodpecker species. Current population estimates are between 100 and 390 individuals and declining.

Habitat destruction and fragmentation was a significant threat. As of 2001, only 40 km² (15 mi²) of suitable habitat was available for this species. While most of the habitat loss appears to have ceased, the Okinawa woodpecker still suffers from limited suitable habitat and a small population size. This situation makes it vulnerable to extinction from disease and natural disasters such as typhoons. In addition, the species is vulnerable to introduced predators such as feral dogs and cats, Javan mongoose (Herpestes javanicus), and weasels (Mustela itatsi). The species is listed as critically endangered on the IUCN Red List. It is legally protected in Japan. It is not listed in any appendices of CITES.

In the previous ANOR, the Okinawa woodpecker was assigned an LPN of 2. After reevaluating the available information, we find that no change in the LPN is warranted. The Okinawa woodpecker does not represent a monotypic genus. Threats to the species are of high magnitude due to the scarcity of old-growth habitat, upon which the species is dependent. Its population is very small and is believed to still be declining, and species with fragmented habitat in combination with small population sizes may be at greater risk of extinction due to synergistic effects. The threats to the species are ongoing and imminent and high in magnitude due to its restricted population size, past habitat loss, and endemism. The LPN for this species remains a 2 to reflect imminent threats of high magnitude.

Yellow-browed toucanet (Aulacorhynchus huallagae)—The yellow-browed toucanet has a small range on the east slope of the Andes of north-central Peru at elevations of 2,000-2,600 m (6,562-8,530 ft). The toucanet occurs in humid montane forests. The population status is not well known because of the inaccessibility of its habitat, but is estimated at 600-1,500 mature individuals. Habitat loss and destruction from deforestation for agriculture has been widespread in the region and is suspected to be the main threat, although deforestation appears to have occurred mainly below the altitudinal range of this toucanet. Gold mining and manufacturing also are common in the region. The yellow-browed toucanet is described as scarce wherever found, and ongoing population declines resulting from habitat loss are assumed. It is classified as endangered on the IUCN Red List and is not listed in any CITES appendices.

In the previous ANOR, the yellow-browed toucanet was assigned an LPN of 2. After reevaluating the available information, we find that no change in the classification of the magnitude and imminence of threats to the species is warranted at this time. The yellow-browed toucanet does not represent a monotypic genus. The estimated population is small with a restricted range. The magnitude of threats to the habitat remains high, and its population is likely declining. The LPN remains a 2 to reflect imminent threats of high magnitude.

Ghizo white-eye (Zosterops luteirostris)—The Ghizo white-eye is a small passerine (perching) bird. It is endemic to the small island of Ghizo in the Solomon Islands in the South Pacific Ocean, east of Papua New Guinea. The total range of the Ghizo white-eye is estimated to be less than 35 km² (13.5 mi²), of which less than 1 km² (0.39 mi²) is the old-growth forest that the species apparently prefers.

Little information is available about this species and its habitat. It is locally common in old-growth forest patches and less common elsewhere. The species has been observed in a variety of habitats on the island, but it is unknown whether sustainable populations can exist outside of forested habitats. The population is estimated to be between 250 and 999 mature individuals and is suspected to be declining due to habitat degradation, particularly since a tsunami hit the island in 2007. Habitat loss appears to be the main threat. As of 2012, the human population on the island was 7,177 and growing rapidly, and there has been prolific growth in informal human settlements and temporary housing on Ghizo, which may be adversely affecting the Ghizo white-eye and its habitat. Areas around Ghizo Town, which previously supported the species, have been further degraded since the town was devastated by the 2007 tsunami, and habitat was found less likely able to support the species in 2012. The species is also affected by conversion of forested areas to agricultural uses. The old-growth forest on Ghizo is still under pressure from clearance for local use as timber, firewood, and gardens, as are the areas of secondary growth, which are already suspected to be suboptimal habitat for this species.

The population of this species is believed to be declining and, given its fragmented habitat in combination with small population sizes, may be at greater risk of extinction due to synergistic effects. The IUCN Red List classifies this species as endangered. It is not listed in any appendices of CITES, and this species is not in international trade.

In the previous ANOR, the Ghizo white-eye was assigned an LPN of 2. After reevaluating the available information, we find that no change in the LPN for this species is warranted. The Ghizo white-eye does not represent a monotypic genus. It faces threats that are high in magnitude due to declining suitable habitat and its small, declining population size. The best available information indicates that forest clearing is occurring at a pace that is rapidly denuding the habitat; secondary-growth forest continues to be converted to agricultural purposes. Further, the human population on the small island is likely contributing to the reduction in old-growth forest for local uses such as gardens and timber. These threats to the species are ongoing, of high magnitude, and imminent. Thus, based on the best available scientific and commercial information, the LPN remains a 2 for this species.

Black-backed tanager (Tangara peruviana)—The black-backed tanager is endemic to the coastal Atlantic Forest region of southeastern Brazil. It has been found in the coastal states of Espirito Santo, Rio de Janeiro, São Paulo, Paranà, Santa Catarina, and Rio Grande do Sul. The species is generally restricted to the sand-forest “restinga” habitat, which is a coastal component habitat of the greater Atlantic Forest complex. Restingas are herbaceous, shrubby coastal sand-dune habitats. The black-backed tanager is primarily found in undisturbed habitat but has also been observed in secondary (or second-growth) forests. It has also been observed visiting gardens and orchards of houses close to forested areas. Within suitable habitat, the black-backed tanager is generally not considered rare. The population estimate is between 2,500 to 10,000 mature individuals. Populations currently appear small and fragmented and are believed to be declining.

The primary factor affecting this species is the rapid and widespread loss of habitat, mainly to urban expansion and beachfront development. Its habitat is under pressure from the intense development that occurs in coastal areas, particularly south of Rio de Janeiro. In addition to the overall loss and degradation of its habitat, the remaining tracts of its habitat are severely fragmented. The black-backed tanager's remaining suitable habitat in the areas of Rio de Janeiro and Paraná have largely been destroyed, and habitat loss and degradation will likely increase in the future. Additionally, although small portions of this species' range occur in six protected areas, protections appear limited. Sea-level rise may also affect this species, which inhabits coastal areas. Habitat loss due to sea-level rise may be compounded by an increased demand by humans to use remaining land for housing and infrastructure. These factors affecting the black-backed tanager's remaining habitat are ongoing due to the challenges that Brazil faces to balance its competing development and environmental priorities. The black-backed tanager is classified as vulnerable by the IUCN. It is not listed in any appendices of CITES. It is listed as vulnerable in Brazil.

In the previous ANOR, the black-backed tanager was assigned an LPN of 8. After reevaluating the available information, we have determined that no change in the LPN for this species is warranted at this time. The black-backed tanager does not represent a monotypic genus. This species is protected under Brazil's National Environmental Policy Act (Law 6.938 of 1981), and several other laws implementing protection for fauna. Despite these laws, its habitat continues to diminish. We find that threats (primarily habitat loss) to the species are moderate in magnitude due to the species' fairly large range, its existence in protected areas, and apparent flexibility in diet and habitat suitability. Threats are imminent because the species is at risk due to ongoing and widespread loss of habitat due to beachfront and related development. Therefore, an LPN of 8 remains valid for this species.

Lord Howe Island pied currawong (Strepera graculina crissalis)—The Lord Howe Island pied currawong is a fairly large crow-like bird, endemic to Lord Howe Island, New South Wales, Australia. Lord Howe Island is a small island northeast of Sydney, Australia, with 28 smaller islets and rocks. The Lord Howe pied currawong occurs throughout the island but is most numerous in the mountainous areas on the southern end. It has also been recorded to a limited extent on the Admiralty Islands, located 1 km (0.6 mi) north of Lord Howe Island. Approximately 75 percent of Lord Howe Island, plus all outlying islets and rocks within the Lord Howe Island group, are protected under the Permanent Park Preserve, which has similar status to that of a national park. The Lord Howe Island pied currawong breeds in rainforests and palm forests, particularly along streams.

The best current population estimate in 2005 and 2006 indicated that there were approximately 200 individuals. The Lord Howe Island pied currawong exists as a small isolated population, which makes it vulnerable to stochastic events. The potential for an introduction of other exotic predators to this island ecosystem has also been identified as an issue for this species. In addition to its small population size, direct persecution (via shootings) by humans in retaliation for predation on domestic and endemic birds has been documented. The incidence of shootings has declined since the 1970s, when conservation efforts on Lord Howe Island began, but occasional shootings were still occurring as of 2007.

Because the Lord Howe pied currawong often preys on small rodents, it may be subject to nontarget poisoning during ongoing rat-baiting programs. Experimental efforts to develop techniques to house the birds in aviaries while rat-baiting programs take place show promise for protecting the species during these eradication efforts. The subspecies' status is not addressed by IUCN. It is not listed in any appendices of CITES as trade is not an issue for this taxon. The New South Wales Threatened Species Conservation Act of 1995 lists the Lord Howe pied currawong as “Vulnerable” due to its extremely limited range and its small population size.

In the previous ANOR, the Lord Howe pied currawong was assigned an LPN of 6. After reevaluating the threats to the Lord Howe pied currawong, we have determined that no change in the LPN representing the magnitude and imminence of threats to the subspecies is warranted. The Lord Howe pied currawong does not represent a monotypic genus. It faces threats that are high in magnitude due to a combination of factors including its extremely small population size, and nontarget poisoning. Despite conservation efforts, the population of the Lord Howe pied currawong has remained small. Species with small population sizes such as these may be at greater risk of extinction due to synergistic effects of factors affecting this species. However, because conservation efforts for the species have been implemented, and the species is being closely managed and monitored, we find that the threats are nonimminent. Thus, based on the best available information, the LPN remains at 6 to reflect nonimminent threats of high magnitude.

Invertebrates (Butterflies)

Jamaican kite swallowtail (Protographium marcellinus, syn. Eurytides)—The Jamaican kite swallowtail is a small blue-green and black butterfly endemic to Jamaica. The species occurs in limestone forest containing its only known larval host plant, Oxandra lanceolata. There is no known estimate of population size. The Jamaican kite swallowtail was historically locally abundant. Presently it maintains low population levels with occasional strong flight seasons with higher numbers. There is only one known breeding site in the eastern coast town of Rozelle, in St. Thomas Parish, near Kingston (Jamaica's capital). However, researchers now believe that there are likely other breeding sites—one potential site being Jamaica's Cockpit Country, a remote and rugged forested region in the west-central portion of the island.

Habitat loss, degradation, and fragmentation are considered to be the primary factors affecting the Jamaican kite swallowtail. Additionally, the species is vulnerable due to its small population size and limited distribution on the island. After centuries of a high rate of deforestation, the island lost much of its original forest. Eight percent of the total land area of Jamaica is natural forest with minimal human disturbance. In Rozelle, habitat modification for agricultural and industrial purposes such as mining has diminished this species' habitat. Most of the damage took place decades ago, but small farming still occurs there. The rugged terrain of the Cockpit Country has hindered large-scale exploitation of resources in the interior, but the periphery and surrounding plains are badly degraded. Major threats identified for the Cockpit Country include: Mining, forest conversion, nonnative invasive species, solid-waste disposal, incompatible agricultural practices, and collecting. Additionally, bauxite mining for aluminum production is an important economic activity for Jamaica and is a large contributor to deforestation. Jamaica's location in the hurricane belt increases its vulnerability to natural environmental events. Although the Jamaican Wildlife Protection Act of 1994 carries steep fines and penalties, illegal collection (see Harris' mimic swallowtail above) is a potential threat for the Jamaican kite swallowtail. The butterfly has been noted for sale on the internet as recently as 2015 for 150 Euros (164 USD). The species is classified as vulnerable on the IUCN Red List and IUCN indicates that this assessment needs updating. It is not is not listed in any appendices of CITES nor is it listed on annex B of the European Union Trade Regulations.

In the previous ANOR, the Jamaican kite swallowtail was assigned an LPN of 2. After reevaluating the factors affecting the Jamaican kite swallowtail, we have determined that no change in LPN is warranted. The Jamaican kite swallowtail does not represent a monotypic genus. Although alternate breeding sites are likely, the only documented site and the presumed core population for this species is in one location that is vulnerable to stochastic environmental events such as hurricanes. Although Jamaica has taken regulatory steps to preserve native swallowtail habitat, plans for conservation of two vital areas for the butterfly (Rozelle and the Cockpit Country) have not been implemented. Based on our reevaluation of the threats to this species, the LPN remains a 2 to reflect imminent threats of high magnitude.

Hahnel's Amazonian swallowtail (Parides hahneli)—Hahnel's Amazonian swallowtail is a large black and yellow butterfly endemic to Brazil. It is known from three locations along the tributaries of the middle and lower Amazon River basin in the states of Amazonas and Pará. Its preferred habitat is old sand strips (stranded beaches) that are overgrown with dense scrub vegetation or forest found close to the major rivers. Hahnel's Amazonian swallowtail is described as very scarce and extremely localized in association with its specialized habitat and its larval host plant. Population size and trends are not known for this species. However, habitat alteration (e.g., for dam construction and waterway crop transport) and destruction (e.g., clearing for agriculture and cattle grazing) are ongoing in Pará and Amazonas where this species is found. Researchers are concerned that potential harmful impacts from habitat alterations are taking place before the butterfly can be better studied and its ecological needs can be understood.

Collection (see Harris' mimic swallowtail above) is also a potential threat for Hahnel's Amazonian swallowtail. The species has been collected for commercial trade and may also be reared for trade. Locations in the wild have been kept secret given the high value of this butterfly to collectors. Two specimens of Hahnel's Amazonian swallowtail were recently noted in online sales from locations in the United States (500 USD) and Germany (approximately 166 USD). Hahnel's Amazonian swallowtail is described as data deficient by the IUCN Red List. The species is listed as endangered on the State of Pará's list of threatened species, but it is not listed by the State of Amazonas or by Brazil. Hahnel's Amazonian swallowtail is not listed in any appendices of CITES. However, it is listed on annex B of the European Union Trade Regulations.

In our previous ANOR, the Hahnel's Amazonian swallowtail was assigned an LPN of 2. After reevaluating the threats to the Hahnel's Amazonian swallowtail, we have determined that no change in the LPN is warranted. This swallowtail does not represent a monotypic genus. It faces threats that are high in magnitude and imminence due to its small endemic population, and limited and decreasing availability of its highly specialized habitat. Habitat alteration and destruction (e.g., dam construction, waterway crop transport, clearing for agriculture, and cattle grazing) are ongoing in Pará and Amazonas where the butterfly is found. These threats are high in magnitude due to the species' highly localized and specialized habitat requirements. Potential impacts from collection are unknown but could, in combination with other stressors, contribute to local extirpations. Based on a reevaluation of the threats, the LPN remains a 2 to reflect imminent threats of high magnitude.

Kaiser-i-Hind swallowtail (Teinopalpus imperialis)—The Kaiser-i-Hind swallowtail is native to Himalayan regions of Bhutan, China, India, Laos, Myanmar, Nepal, Thailand, and Vietnam. Although it has a relatively large range, it is restricted to higher elevations and occurs only locally within this range. This species occurs at altitudes of 1,500 to 3,050 m (4,921 to 10,000 ft) above sea level, in undisturbed (primary) broad-leaved-evergreen forests or montane deciduous forests. Adults fly up to open hilltops above the forests to mate, where males will often defend mating territories. Larval host-plants are limited to Magnolia and Daphne spp., and in some regions the Kaiser-i-Hind swallowtail is strictly monophagous, only using a single species of Magnolia as a host plant. Despite the species' widespread distribution, populations are described as being very local and never abundant. Even early accounts of the species described it as being a very rare occurrence. Habitat destruction is believed to negatively affect this species, which prefers undisturbed high-altitude forests. In China and India, the Kaiser-i-Hind swallowtail populations are affected by habitat modification and destruction due to commercial and illegal logging. In Nepal, the species is affected by habitat disturbance and destruction resulting from mining, wood collection for use as fuel, deforestation, collection of fodders and fiber plants, forest fires, invasion of bamboo species into the oak forests, agriculture, and grazing animals. In Vietnam, the forest habitat is reportedly declining. The Forest Ministry in Nepal considers habitat destruction to be a critical threat to all biodiversity, including the Kaiser-i-Hind swallowtail. Comprehensive information on the rate of degradation of Himalayan forests containing the Kaiser-i-Hind butterfly is not available, but habitat loss is consistently reported as one of the primary ongoing threats to the species there.

Collection for commercial trade is also regarded as a threat to the species. The Kaiser-i-Hind swallowtail is highly valued and has been collected and traded despite various prohibitions. Although it is difficult to assess the potential impacts from collection, it is possible that collection in combination with other stressors could contribute to local extirpations of small populations.

Since 1996, the Kaiser-i-Hind swallowtail has been categorized on the IUCN Red List as “Lower Risk/near threatened,” but IUCN indicates that this assessment needs updating. The Kaiser-i-Hind swallowtail has been listed in CITES appendix II since 1987. Additionally, the Kaiser-i-Hind swallowtail is listed on annex B of the European Union Trade Regulations.

After reevaluating the threats to this species, we have determined that no change in its LPN of 8 is appropriate. The Kaiser-i-Hind swallowtail does not represent a monotypic genus. The current factors, habitat destruction and illegal collection, are moderate in magnitude due to the species' wide distribution and to various protections in place within each country. We find that the threats are imminent due to ongoing habitat destruction and high market value for specimens. Based on our reassessment of the threats, we have retained an LPN of 8 to reflect imminent threats of moderate magnitude.

Findings for Non-Petitioned Candidate Species

Molluscs

Colorado delta clam (Mulinia coloradoensis)—The Colorado Delta clam is a relatively large, approximately 30 mm (1.2 in) average length, estuarine bivalve, once abundant at the head of the Gulf of California in the Colorado River estuary in Mexico prior to the construction of dams on the Colorado River. Live individuals of the clam were not observed anywhere in the wild between 1968 and 1998, despite extensive studies of bottom-dwelling fauna in the region. In 1998, a small relict population was discovered at Isla Montague, Mexico, at the mouth of the Colorado River Delta, and this population represents the extent of the species' currently known range. The clam is found in low intertidal mud at depths of about 7 cm (2.75 in) beneath the sediment and is a suspension-feeder. Freshwater inflow is critical to the species' survival because brackish water (a mix of salt and fresh water) is an important component of its habitat and life history. We are unaware of precise estimates of the population size for the Colorado Delta clam, but a 90-percent decline since dam construction has been suggested.

Habitat loss and degradation are considered to be the primary factors affecting the Colorado Delta clam. Additionally, the species is now vulnerable due to its small population size and limited distribution. Dams and diversions along the Colorado River have greatly affected the estuarine environment, decreasing freshwater, nutrient and sediment inflow. The Colorado Delta clam may have experienced a greater than 90-percent reduction in its occupied range caused by the decrease in freshwater flow to the estuary.

Agricultural return flow from the Mexicali Valley, coupled with aquifer inflow, is a very important freshwater source ensuring the maintenance of the estuarine environment in the Delta and the continued survival of the clam. In 2009, the U.S. completed lining of the All-American Canal to prevent water loss via seepage. Prior to lining, water seepage from the All-American Canal was an important source of recharge to the Mexicali Valley aquifer. The All-American Canal lining is predicted to reduce total recharge to the Mexicali Valley aquifer, which will reduce the freshwater inflow into the Delta. Additionally, predicted increases in drought and warmer temperatures associated with climate change will contribute to deterioration of the clam's habitat by further curtailing freshwater inflow and favoring nonnative invasive aquatic species to the detriment of native species like the Colorado Delta clam. The species has not been assessed for the IUCN Red List. It is not threatened by international trade, and it is not listed in any appendices of CITES.

In the previous ANOR, the Colorado Delta clam was assigned an LPN of 2. After reevaluating the factors affecting the clam, we have determined that no change in LPN is warranted. The Colorado Delta clam does not represent a monotypic genus. The available evidence indicates that Colorado delta clam is now restricted to one relict population at Isla Montague at the mouth of the Colorado River delta. Its habitat is currently affected by the ongoing and continuing (i.e., imminent) loss of freshwater input into the Delta. Furthermore, the available information indicates that loss of freshwater will likely worsen in the near- and long-term future. Since habitat containing the entire range of the species may be rendered unsuitable within the near future, we find that threats are of high magnitude. Therefore, we find the Colorado delta clam is subject to high-magnitude imminent threats, and we retain an LPN of 2 for this species.

Preclusion and Expeditious Progress

To make a finding that a particular action is warranted but precluded, the Service must make two determinations: (1) That the immediate proposal and timely promulgation of a final regulation is precluded by pending listing proposals and (2) that expeditious progress is being made to add qualified species to either of the lists and to remove species from the lists (16 U.S.C. 1533(b)(3)(B)(iii)). A listing proposal is precluded if the Service does not have sufficient resources available to complete the proposal, because there are competing demands for those resources, and the relative priority of those competing demands is higher. Thus, in any given fiscal year (FY), multiple factors dictate whether it will be possible to undertake work on a listing proposal regulation or whether publication of such a proposal is precluded by higher-priority listing actions, including: (1) The amount of resources available for completing the listing function; (2) the estimated cost of completing the proposed listing; and (3) the Service's workload and prioritization of the proposed listing in relation to other actions.

The resources available for listing actions are determined through the annual Congressional appropriations process. The appropriation for the Listing Program is available to support work involving the following listing actions: Proposed and final listing rules; 90-day and 12-month findings on petitions to add species to the Lists of Endangered and Threatened Wildlife and Plants (Lists) or to change the status of a species from threatened to endangered; annual determinations on prior “warranted-but-precluded” petition findings as required under section 4(b)(3)(C)(i) of the Act; critical habitat petition findings; proposed and final rules designating critical habitat; and litigation-related, administrative, and program-management functions (including preparing and allocating budgets, responding to Congressional and public inquiries, and conducting public outreach regarding listing and critical habitat).

The work involved in preparing various listing documents can be extensive and may include, but is not limited to: Gathering and assessing the best scientific and commercial data available and conducting analyses used as the basis for our decisions; writing and publishing documents; and obtaining, reviewing, and evaluating public comments and peer review comments on proposed rules and incorporating relevant information into final rules. The number of listing actions that we can undertake in a given year also is influenced by the complexity of those listing actions; that is, more complex actions generally are more costly.

We cannot spend more than is appropriated for the Listing Program without violating the Anti-Deficiency Act (see 31 U.S.C. 1341(a)(1)(A)). In addition, in FY 1998 and for each fiscal year since then, Congress has placed a statutory cap on funds that may be expended for the Listing Program, equal to the amount expressly appropriated for that purpose in that fiscal year. This cap was designed to prevent funds appropriated for other functions under the Act (for example, recovery funds for removing species from the Lists), or for other Service programs, from being used for Listing Program actions (see House Report 105-163, 105th Congress, 1st Session, July 1, 1997).

Prior to FY 2012, there was no distinction in appropriations for listing domestic and foreign species. However, in an effort to balance foreign species listing commitments with other Listing Program responsibilities, effective FY 2012 and for each fiscal year since then, the Service's Listing Program budget has included a foreign species subcap providing that funding is not to exceed a specified amount for implementation of subsections (a), (b), (c), and (e) of section 4 of the Act for species that are not indigenous to the United States (see Conference Report 112-331, 112th Congress, 1st session, Dec. 15, 2011).

Thus, through the listing program cap and the foreign species subcap, Congress has determined the amount of money available for foreign species listing activities, including petition findings and listing determinations.

In FY 2016, the Service had $1,504,000 that could be used for listing actions for foreign species. This funding supports work in the following categories: Compliance with court orders and court-approved settlement agreements requiring that petition findings or listing determinations be completed by a specific date; section 4 (of the Act) listing actions with absolute statutory deadlines; essential litigation-related, administrative, and listing program-management functions; and high-priority listing actions for some of our candidate species.

In addition, available staff resources are also a factor in determining which high-priority species are provided with funding. The Branch of Foreign Species may, depending on available staff resources, work on species described within this CNOR-FS with an LPN of 2 or 3, and when appropriate, species with a lower priority if they overlap geographically or have the same threats as the species with the high priority.

Based on the prioritization factors mentioned above, we continue to find that proposals to list the candidate species included in this CNOR-FS are all precluded by higher-priority listing actions. Because the actions in table 2 below are either the subject of a court-approved settlement agreement or subject to an absolute statutory deadline and, thus, are higher priority than work on proposed listing determinations for the 20 species described above, publication of proposed rules for these 20 species is precluded.

Table 2—Pending ESA Foreign Species Listing Actions
Species | Action
Actions Subject to Court Order/Settlement Agreement
All have been completed (See table 3 below for these specific actions). |
Actions With Statutory Deadlines
Scarlet macaw | Final listing determination.
Virgin Islands coqui | 12-month petition finding.
Hyacinth macaw | Final listing determination.
Peary, and Dolphin and Union caribou | 12-month petition finding.
3 Aral Sea sturgeon species | 12-month petition finding.
3 East Asian sturgeon species | 12-month petition finding.
11 tarantula species | 12-month petition finding.
4 Persian sturgeon species | 12-month petition finding.
Ridgway's hawk eagle | 12-month petition finding.
15 bat species | 12-month petition finding.
Emperor penguin | 12-month petition finding.
Flores hawk-eagle | 12-month petition finding.
Three-toed pygmy sloth | 12-month petition finding.
Egyptian tortoise | 12-month petition finding.
Golden conure | 12-month petition finding.
2 Australian parakeet species | Final listing determination.
Flat-tailed tortoise | 12-month petition finding.
Spider tortoise | 12-month petition finding.
7 pangolin species | 12-month petition finding.
African elephant | 12-month petition finding.
Long-tailed chinchilla | 12-month petition finding.

As explained above, a determination that listing is warranted but precluded must also demonstrate that expeditious progress is being made to add and remove qualified species to and from the Lists. As with our “precluded” finding, the evaluation of whether progress in adding qualified species to the Lists has been expeditious is a function of the resources available for listing and the competing demands for those funds. Our expeditious progress for foreign species since publication of our previous ANOR, published on April 25, 2013 (78 FR 24604), to October 17, 2016, includes preparing and publishing the following:

Table 3—ESA Foreign Species Listing Actions Published Since the Previous ANOR Was Published on April 25, 2013
Publication date | Species | Action | FR pages
6/5/2013 | Scimitar-horned oryx, dama gazelle, and addax | 12-month petition findings; delisting not warranted | 78 FR 33790-33797
6/12/2013 | Chimpanzee | 12-month petition finding and proposed rule | 78 FR 35201-35217
6/25/2013 | Broad-snouted caiman | Final rule; threatened with special rule | 78 FR 38162-38190
9/11/2013 | Southern white rhino | Interim rule: Threatened due to similarity of appearance | 78 FR 55649-55656
9/24/2013 | Ten sturgeon species | 90-day finding; initiation of status review | 78 FR 58507-58510
10/3/2013 | Blue-throated macaw | Final rule: Endangered | 78 FR 61208-61219
10/29/2013 | Five birds from Columbia and Ecuador | Final rule; endangered | 78 FR 64692-64733
11/19/2013 | Vicuña in Argentina, Bolivia, Chile, Ecuador, and Peru | Notice of initiation of 5-year review | 78 FR 69436-69437
12/3/2013 | Eleven tarantula species | 90-day findings; initiation of status reviews | 78 FR 72622-72625
12/5/2013 | Straight-horned markhor | Proposed rule revision; Threatened with special rule | 78 FR 73173-73185
1/22/2014 | Fifteen foreign bats, emperor penguin, Flores hawk-eagle, Ridgway's hawk, and Virgin Islands coquí | 90-day findings; initiation of status reviews | 79 FR 3559-3562
5/20/2014 | Southern white rhino | Affirmation of interim rule as final rule: Threatened due to similarity of appearance | 79 FR 28847-28849
6/9/2014 | Flat-tailed tortoise, spider tortoise, and pygmy three-toed sloth | 90-day findings; initiation of status reviews | 79 FR 32900-32903
6/24/2014 | Philippine cockatoo and yellow-crested cockatoo | Final rule; endangered | 79 FR 35870-35900
6/24/2014 | White cockatoo | Final rule; threatened with special rule | 79 FR 35870-35900
10/7/2014 | Straight-horned markhor | Final rule: Threatened with special rule | 79 FR 60365-60379
10/29/2014 | African lion | Proposed rule: Threatened with special rule | 79 FR 64472-64502
4/10/2015 | Egyptian tortoise, golden conure, and long-tailed chinchilla | 90-day findings; initiation of status reviews | 80 FR 19259-19263
6/16/2015 | Chimpanzee | Final rule; endangered | 80 FR 34500-34525
7/29/2015 | Honduran emerald hummingbird | Final rule; endangered | 80 FR 45086-45097
10/2/2015 | Great green and military macaw | Final rule; endangered | 80 FR 59976-60021
12/23/2015 | Lion—Panthera leo leo | Final rule; endangered | 80 FR 80000-80056
12/23/2015 | Lion—Panthera leo melanochaita | Final rule; threatened with special rule | 80 FR 80000-80056
1/21/2016 | Scarlet-chested parakeet and turquoise parakeet | Reopening of the public comment period | 81 FR 3373-3374
3/16/2016 | African elephant, Chinese pangolin, giant ground pangolin, Indian pangolin, long-tailed pangolin, Philippine pangolin, Sunda pangolin, tree pangolin | 90-day findings; initiation of status reviews | 81 FR 14058-14072
4/7/2016 | Scarlet macaw | Revised proposed listing rule | 81 FR 20302-20316

Our expeditious progress also includes work on pending listing actions described above in our “precluded finding,” but for which decisions had not been completed at the time of this publication. After taking into consideration the limited resources available for listing foreign species, the competing demands for those funds, and the completed work catalogued in the tables above, we find that we are making expeditious progress to add qualified species to the Lists in FY 2016.

We have endeavored to make our listing actions as efficient and timely as possible, given the requirements of the relevant law and regulations, and constraints relating to workload and personnel. We are continually considering ways to streamline processes or achieve economies of scale, such as by publishing related actions together.

Monitoring

Section 4(b)(3)(C)(iii) of the Act requires us to “implement a system to monitor effectively the status of all species” for which we have made a warranted-but-precluded 12-month finding, and to “make prompt use of the [emergency listing] authority [under section 4(b)(7)] to prevent a significant risk to the well-being of any such species.” For foreign species, the Service's ability to gather information to monitor species is limited. The Service welcomes all information relevant to the status of these species, because we have no ability to gather data in foreign countries directly and cannot compel another country to provide information. Thus, this CNOR-FS plays a critical role in our monitoring efforts for foreign species.

With each CNOR-FS, we request information on the status of the species included in the CNOR-FS. Information and comments on the annual findings can be submitted at any time. We review all new information received through this process as well as any other new information we obtain using a variety of methods. We collect information directly from range countries by correspondence, from peer-reviewed scientific literature, unpublished literature, scientific meeting proceedings, and CITES documents (including species proposals and reports from scientific committees). We also obtain information through the permit-application processes under CITES, the Act, and the Wild Bird Conservation Act (16 U.S.C. 4901 et seq.). We also consult with the IUCN species specialist groups and staff members of the U.S. CITES Scientific and Management Authorities, and the Division of International Conservation; and we attend scientific meetings, when possible, to obtain current status information for relevant species. As previously stated, if we identify any species for which emergency listing is appropriate, we will make prompt use of the emergency listing authority under section 4(b)(7) of the Act.

References Cited

A list of the references used to develop this CNOR-FS is available at http://www.regulations.gov at Docket No. FWS-HQ-ES-2016-0072.

Authors

This Candidate Notice of Review of Foreign Species was primarily authored by staff of the Branch of Foreign Species and Jesse D'Elia, Ecological Services Program, U.S. Fish and Wildlife Service.

Authority

This Candidate Notice of Review of Foreign Species is published under the authority of the Endangered Species Act of 1973, as amended (16 U.S.C. 1531 et seq.).

Dated: September 29, 2016.
Stephen Guertin,
Acting Director, U.S. Fish and Wildlife Service.

[FR Doc. 2016-24931 Filed 10-14-16; 8:45 am]

BILLING CODE 4333-15-P